INTERNATIONAL TRADE COMMISSION

Notice of Delegation of Authority to Secretary to the Commission To Publish Notice of the Receipt of Complaints Under Section 337 of the Tariff Act of 1930 and To Solicit Comments Relating to the Public Interest

AGENCY: U.S. International Trade Commission.

ACTION: Notice.

SUMMARY: Notice is hereby given that the U.S. International Trade Commission has determined to delegate authority to the Secretary to the Commission to publish notice of the receipt of future complaints under section 337 of the Tariff Act of 1930 and to solicit comments relating to the public interest.

DATES: Effective Date: July 8, 2010.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: Section 337 of the Tariff Act of 1930 (“section 337”) provides that if the Commission finds a violation it shall exclude the articles concerned from the United States:

unless, after considering the effect of such exclusion upon the public health and welfare, competition conditions in the United States economy, the production of like or directly competitive articles in the United States consumers, it finds that such articles should not be excluded from entry.

19 U.S.C. 1337(d)(1). The statute contains a similar provision in relation to cease and desist orders. 19 U.S.C. 1337(f)(1).

The Commission has determined to delegate to the Secretary to the Commission the authority to publish notice of receipt of a complaint and, in such a notice, to solicit comments on any public interest issues raised by the complaint.

This action is taken under the authority of section 337 of the Tariff Act of 1930, as amended (19 U.S.C. 1337), and of sections 201.10 and 210.50(a)(4) of the Commission's Rules of Practice and Procedure (19 CFR 201.10, 210.50(a)(4)).

Issued: July 8, 2010.
By order of the Commission.
Marilyn R. Abbott,
Secretary to the Commission.

[FR Doc. 2010-17016 Filed 7-12-10; 8:45 am]

BILLING CODE 7020-02-P